DEPARTMENT OF JUSTICE

Notice of Lodging of Partial Consent Decree Under the Clean Water Act

Under 28 CFR 50.7, notice is hereby given that on February 15, 2002, a proposed Partial Consent Decree (“decree”) in United States and State of Ohio v. Board of County Commissioners of Hamilton County and the City of Cincinnati, Civil Action Nos. C-1-02-107 and C-1-02-108, was lodged with the United States District Court for the Southern District of Ohio.

In this action the United States sought injunctive relief from defendants for unauthorized discharges from their sanitary sewer system, located in Hamilton County, Ohio. These unauthorized discharges are also known as sanitary sewer overflows, or SSOs, and are violations of the Clean Water Act. The decree requires the defendants to implement an interim and then permanent remedy for SSO 700 and to implement certain other specified capital improvement projects, which are expected to eliminate other “highly active” SSOs. In addition, defendants are required to perform comprehensive modeling and analysis of their sanitary sewer system and to propose a comprehensive plan to address the rest of their SSOs and to provide adequate future system capacity. The decree specifically reserves claims of the United States for penalties related to these unauthorized discharges, as well as claims for penalties and injunctive relief concerning other sewer system violations, including among others, violations concerning defendants' wastewater treatment plants and combined sewer system.

The Department of Justice will receive for a period of thirty (30) days from the date of this publication comments relating to the decree. Comments should be addressed to the Assistant Attorney General, Environment and Natural Resources Division, PO Box 7611, U.S. Department of Justice, Washington, DC 20044-7611, and should refer to United States and State of Ohio v. Board of County Commissioners of Hamilton County and the City of Cincinnati, D.J. Ref. 90-5-1-6-341A.

The decree may be examined at the Office of the United States Attorney for the Southern District of Ohio, 221 E. 4th Street, Atrium II, Suite 400, Cincinnati, Ohio 45202, and at U.S. EPA Region V, 77 West Jackson Blvd, Chicago, IL 60604-3590. A copy of the decree may also be obtained by mail from the Consent Decree Library, PO Box 7611, U.S. Department of Justice, Washington, DC 20044-7611. In requesting a copy of the decree, including its exhibits, please enclose a check in the amount of $209.00 (25 cents per page reproduction cost) payable to the Consent Decree Library. In requesting a copy exclusive of exhibits, please enclose a check in the amount of $18.75 (25 cents per page reproduction cost) payable to the Consent Decree Library.

William D. Brighton,
Assistant Chief, Environmental Enforcement Section, Environment and Natural Resources Division.

[FR Doc. 02-4697 Filed 2-27-02; 8:45 am]

BILLING CODE 4410-15-M